SOCIAL SECURITY ADMINISTRATION

[Docket No. SSA-2010-0069]

Agency Self-Evaluation Under Section 504 of the Rehabilitation Act of 1973

AGENCY: Social Security Administration.

ACTION: Notice and request for comments.

SUMMARY: We are initiating a self-evaluation of our policies and practices supporting section 504 of the Rehabilitation Act of 1973. Under section 504, Federal agencies are required to provide meaningful access to their programs and activities to qualified persons with disabilities. We are interested in any ideas and suggestions you have about how we should conduct a self-evaluation.

We are particularly interested in ideas and suggestions from persons with disabilities, their family members, and those who work with or advocate for persons with disabilities.

As we proceed with the self-evaluation, we will provide an additional opportunity to interested persons to participate by submitting comments about our policies and practices.

DATES: To ensure that your ideas and suggestions are considered, we must receive them no later than December 6, 2010.

ADDRESSES: You may submit ideas and suggestions by any one of three methods—Internet, fax, or mail. Do not submit the same ideas or suggestions multiple times or by more than one method. Regardless of which method you choose, please state that your ideas and suggestions refer to Docket No. SSA-2010-0069 so that we may associate your ideas and suggestions with the correct document.

Caution: You should be careful to include in your ideas and suggestions only information that you wish to make publicly available. We strongly urge you not to include in your ideas and suggestions any personal information, such as Social Security numbers or medical information. We will not respond to your ideas and suggestions, but we will consider them as we develop our self-evaluation. Please do not send any information or questions about your claim for benefits.

1. Internet: We strongly recommend that you submit your ideas and suggestions via the Internet. Please visit the Federal eRulemaking portal at http://www.regulations.gov. Use the Search function to find docket number SSA-2010-0069. The system will issue a tracking number to confirm your submission. You will not be able to view your comment immediately because we must post each comment manually. It may take up to a week for your comment to be viewable.

2. Fax: Fax ideas and suggestions to (410) 966-2830.

3. Mail: Mail your ideas and suggestions to the Office of Regulations, Social Security Administration, 107 Altmeyer Building, 6401 Security Boulevard, Baltimore, Maryland 21235-6401.

Ideas and suggestions are available for public viewing on the Federal eRulemaking portal at http://www.regulations.gov or in person, during regular business hours, by arranging with the contact person identified below.

FOR FURTHER INFORMATION CONTACT: Diane L. Harris, Social Security Administration, 6401 Security Boulevard, Baltimore, MD 21235-6401, 1-877-794-7395. For information on eligibility or filing for benefits, call our national toll-free number, 1-800-772-1213 or TTY 1-800-325-0778, or visit our Internet site, Social Security Online, at http://www.socialsecurity.gov.

SUPPLEMENTARY INFORMATION:

Electronic Version

The electronic file of this document is available on the date of publication in the Federal Register at http://www.gpoaccess.gov/fr/index.html.

Background

Under section 504 of the Rehabilitation Act of 1973, as amended, Federal agencies are required to provide meaningful access to their programs and activities to qualified persons with disabilities. We are conducting a self-evaluation of our policies and practices to ensure that they comply with section 504 and 45 CFR part 85.

Request for Ideas and Suggestions

As we begin our self-evaluation, we are asking for your ideas and suggestions on how we can best perform the self-evaluation. For example:

• What aspects of our facilities, activities, and programs should we evaluate? Should we perform a self-evaluation of individual facilities or perform a more general evaluation of our facilities, activities, and programs?

• How can we best provide an opportunity for persons with disabilities, their family members, and those who work with or advocate for persons with disabilities to participate in the self-evaluation? Should we conduct public meetings, obtain ideas and suggestions through the solicitation of written comments, or obtain input through some other method?

You will also have another opportunity to participate in the self-evaluation process when we ask you to submit comments about our policies and practices in a subsequent Federal Register notice.

Dated: November 1, 2010.
Michael J. Astrue,
Commissioner of Social Security.

[FR Doc. 2010-27922 Filed 11-4-10; 8:45 am]

BILLING CODE 4191-02-P